DEPARTMENT OF JUSTICE

Drug Enforcement Administration

[Docket No. DEA-392]

Bulk Manufacturer of Controlled Substances Application: PCAS-NANOSYN, LLC

ACTION: Notice of application with opportunity for comment.

DATES: Registered bulk manufacturers of the affected basic classes and applicants therefore may file written comments or objections to the issuance of the proposed registration in accordance with 21 CFR 1301.33(a) on or before June 30, 2014.

ADDRESSES: Written comments should be sent via regular or express mail to: Drug Enforcement Administration, Attention: DEA Federal Register Representative/ODW, 8701 Morrissette Drive, Springfield, Virginia 22152.

SUPPLEMENTARY INFORMATION: The Attorney General has delegated his authority under the Controlled Substances Act to the Administrator of the Drug Enforcement Administration (DEA), 28 CFR 0.100(b). Authority to exercise all necessary functions with respect to the promulgation and implementation of 21 CFR part 1301, incident to the registration of manufacturers, distributors, and dispensers of controlled substances (other than final orders in connection with suspension, denial, or revocation of registration) has been re-delegated to the Deputy Assistant Administrator of the DEA Office of Diversion Control (“Deputy Assistant Administrator”) pursuant to sec. 7(g) of 28 CFR pt. 0, subpt. R, App.

In accordance with 21 CFR 1301.33(a), this is notice that on December 4, 2013, PCAS-Nanosyn, LLC, 3331-B Industrial Drive, Santa Rosa, California 95403, made application by renewal to the DEA to be registered as a bulk manufacturer of the following basic classes of narcotic and nonnarcotic controlled substances:

Controlled substance | Schedule | Narcotic/ Nonnarcotic
Amphetamine (1100) | II | nonnarcotic.
Methamphetamine (1105) | II | nonnarcotic.
Methylphenidate (1724) | II | nonnarcotic.
Phencyclidine (7471) | II | nonnarcotic.
Codeine (9050) | II | narcotic.
Oxycodone (9143) | II | narcotic.
Hydromorphone (9150) | II | narcotic.
Hydrocodone (9193) | II | narcotic.
Methadone (9250) | II | narcotic.
Morphine (9300) | II | narcotic.
Oripavine (9330) | II | narcotic.
Oxymorphone (9652) | II | narcotic.
Fentanyl (9801) | II | narcotic.

The company is a contract manufacturer. At the request of the company's customers, it manufactures derivatives of controlled substances only in bulk form.

Dated: April 21, 2014.
Joseph T. Rannazzisi,
Deputy Assistant Administrator.

[FR Doc. 2014-09576 Filed 4-29-14; 8:45 am]

BILLING CODE 4410-09-P